DEPARTMENT OF ENERGY

International Energy Agency Meeting

AGENCY: Department of Energy.

ACTION: Notice of meeting.

SUMMARY: The Industry Advisory Board (IAB) to the International Energy Agency (IEA) will meet on March 20 and 21, 2006, at the headquarters of the IEA in Paris, France, in connection with a joint meeting of the IEA's Standing Group on Emergency Questions and the IEA's Standing Group on the Oil Market.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on March 20, 2006, beginning at 11 a.m. and continuing on March 21, 2006, at 9:30 a.m. The purpose of this notice is to permit attendance by representatives of U.S. company members of the IAB at a joint meeting of the IEA's Standing Group on Emergency Questions (SEQ) and the IEA's Standing Group on the Oil Market (SOM), which is scheduled to be held at the same location and time. The agenda of the joint SEQ/SOM meeting is under the control of the SEQ and the SOM. It is expected that the SEQ and the SOM will adopt the following agenda:

1. Update on the Refinery Sector.

2. Emerging Russian Hydrocarbon Policy and Implications for Oil and Gas.

3. Short-term Gas Market Update.

4. Current Oil Market Situation.

5. Tanker Market Workshop.

I. Introduction to Tanker Market

—Tanker Types, Fuel Uses.

—Regional Preferences.

—Loading and Transportation Restrictions.

—Pricing of Freight Rates.

—Determinants of Supply Demand.

II. Current Tanker Market Situation

—Tanker Market Update.

—Factors Behind the Current Tanker Market Including Related Oil Market Trends.

—Lessons Learned from the September Hurricanes.

III. Tanker Market Trends in the Medium Term

—Pressures on the Tanker Fleet.

—New Ports/New Exporters.

—Projected Fleet Evolution.

—Appropriateness of Order Book to Market Projections.

—The Implications of Growing Share of Offshore-Loaded Crude.

6. Any Other Business and Tentative Dates of Forthcoming SEQ and SOM Sessions

—Joint SLT/SEQ/SOM Workshop on Gas Security: June 12, 2006

—SEQ: June 20-21, 2006

—SEQ: November 16-17, 2006

—Two-Day London Conference: Monday November 20 to Tuesday November 21, 2006, London, United Kingdom

—SOM: November 22, 2006, London, United Kingdom

7. Market Update on Iran and Nigeria

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, March 9, 2006.
Samuel M. Bradley,
Assistant General Counsel for International and National Security Programs.

[FR Doc. E6-3759 Filed 3-14-06; 8:45 am]

BILLING CODE 6450-01-P